ENVIRONMENTAL PROTECTION AGENCY

[FRL-7504-7]

Solicitation of Public Comment Into the Development of a Joint U.S. Environmental Protection Agency (EPA) and American Chemistry Council (ACC) Request for Applications on “Environmental Statistics Research: Novel Analyses of Human Exposure Related Data;” Announcement of Memorandum of Understanding Between EPA and ACC on the Procedure for the Joint Solicitation of Research Proposals

AGENCY: Environmental Protection Agency (EPA).

ACTION: Notice; request for public comment.

SUMMARY: The U.S. Environmental Protection Agency's Office of Research and Development (ORD) and the American Chemistry Council's (ACC) Long-Range Research Initiative (LRI) are interested in issuing joint solicitations for research proposals. A Memorandum of Understanding has been developed that sets forth a public process for bringing together government and industry to engage the best scientists in the research community to assist in improving the quantity and quality of data for use in human health and ecological risk assessment. Discussions have led ORD and ACC to agree to pursue, as a first area of collaboration, a joint request for applications (RFA) in the area of “Environmental Statistics Research: Novel Analyses of Human Exposure Related Data.” The purpose of this notice is to solicit specific input into the development of a joint RFA on novel approaches for analysis of human exposure data, and announce a Memorandum of Understanding on the procedures for the public process of issuing joint RFAs.

DATES: Public comment on the draft RFA must be received on or before June 30, 2003.

ADDRESSES: Public comment may be submitted via overnight mail, in person or electronically.

1. By overnight mail, in person, or by courier. You may submit written comments to: Elaine Z. Francis, U.S. Environmental Protection Agency, 1300 Pennsylvania Avenue, NW., Room 51141, Washington, DC 20004

2. Electronically. You may submit written comments electronically by e-mail to: francis.elaine@epa.gov.

FOR FURTHER INFORMATION CONTACT: Elaine Z. Francis, U.S. Environmental Protection Agency, 1300 Pennsylvania Avenue, NW., Room 51141, Washington, DC 20004; Telephone: 202-564-6789; Fax: 202-565-2444; E-mail: francis.elaine@epa.gov.

SUPPLEMENTARY INFORMATION: On May 7, 2002, a Federal Register notice was published (67 FR 30680) on the availability of a draft document on procedures for the joint solicitation of research proposals by the U.S. Environmental Protection Agency's Office of Research and Development and the American Chemistry Council's Long-Range Initiative, the announcement of a public meeting to discuss the draft document, and solicitation of written public comments. The notice also solicited initial input toward the development of an RFA on novel analyses of human exposure related data, both at the public meeting and through the written comment period. The public meeting was held on May 23, 2002, and the public comment period closed on June 12, 2002.

The public process for the joint solicitation of RFAs was finalized into a Memorandum of Understanding between ORD and ACC. Consistent with the finalized procedures, this notice solicits public comment on the draft RFA. The draft RFA on novel analyses of human exposure related data and the MOU may be obtained electronically through: (1) The EPA Web site: http://www.epa.gov/ncer/rfa/partners/acc, (2) the ACC Web site: http://www.americanchemistry.com, (3) the LRI Web site: http://www.uslri.org, and (4) the below listed point of contact. Written comments on the draft RFA will be accepted until June 30, 2003.

Dated: May 15, 2003.
Jack Puzak,
Acting Director, National Center for Environmental Research.

[FR Doc. 03-13431 Filed 5-28-03; 8:45 am]

BILLING CODE 6560-50-P